FEDERAL MARITIME COMMISSION

Ocean Transportation Intermediary License Applicants

Notice is hereby given that the following applicants have been filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicant should not receive a license are requested to contact the Office of Transportation Intermediaries, Federal Maritime Commission, Washington, DC 20573.

Non-Vessel Operating Common Carrier Ocean Transportation Intermediary Applicants

AE Eagle America Inc., 155-04 145th Avenue, Jamaica, NY 11434, Officers: Davy NG, Secretary (Qualifying Individual), Milton Cheung, President

Cargozone Trans Corporation, 19550 Dominguez Hills Dr., Rancho Dominguez, CA 90220, Officers: Paul M. Kim, Secretary (Qualifying Individual), Byung Keun Han, President

Mark M. Marcus, North American Container Group, 6600 N. Lincoln Ave., Suite 3066, Lincolnwood, IL 60712, Sole Proprietor

Navetrans Corp. dba Costa Rica Carriers, 240 Crandon Blvd., Suite 203 A, Miami, FL 33149, Officers: Sahir Miguel Morales, Asst. Vice President (Qualifying Individual), Joachim Haubold, President

Datacargo Co. Inc. dba Datacargo, 8235 N.W. 82nd Avenue, Miami, FL 33166, Luis Andres Sara, General Manager (Qualifying Individual), Maria Elena Gomez Ruggiero, Vice President

Non-Vessel Operating Common Carrier and Ocean Freight Forwarder Transportation Intermediary Applicants

Summit Cargo Group, Inc., 724 South Hindry Avenue, Inglewood, CA 90301, Officers: Tony Feist, Director of Operations (Qualifying Individual), Zachary Zemby, President

Kuhn Hay, Inc., 1625 Drew Road, El Centro, CA 92243, Officers: James E. Kuhn, President (Qualifying Individual), John Robert Kuhn, Director

Top Cargo Inc., 3537 NW 82nd Avenue, Miami, FL 33122, Officer: Damian J. Pelegrino, President (Qualifying Individual)

Sun Express International, Inc. dba BNX Shipping Hawaii, 1188 Bishop Street, #1006 Honolulu, HI 96813, Officer: Sun Hee Lee, President (Qualifying Individual)

Dated: November 9, 2001.
Theodore A. Zook,
Assistant Secretary.

[FR Doc. 01-28667 Filed 11-14-01; 8:45 am]

BILLING CODE 6730-01-P